DEPARTMENT OF TRANSPORTATION

Federal Railroad Administration

[Docket Number FRA-2025-0043]

Notice of Petition for Special Approval of Alternative Standard

AGENCY: Federal Railroad Administration (FRA), Department of Transportation (DOT).

ACTION: Notice.

SUMMARY: This document provides the public notice that Caltrain petitioned FRA for a special approval of an alternative standard concerning periodic maintenance of brake equipment.

DATES: FRA must receive comments on the petition by July 2, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Derrick Griffith, Railroad Safety Specialist, FRA Motive Power & Equipment Division, email: derrick.griffith@dot.gov, phone: 202-366-4000.

SUPPLEMENTARY INFORMATION: Under part 211 of title 49 Code of Federal Regulations (CFR) and pursuant to 49 CFR 238.21, this document provides the public notice that by letter dated March 14, 2025, the Peninsula Corridor Joint Powers Board (Caltrain) petitioned FRA for a special approval of an alternative standard to 49 CFR 238.309(b)(4), Periodic brake equipment maintenance. FRA assigned the petition Docket Number FRA-2025-0043.

Caltrain requests approval of an alternative standard to 49 CFR 238.309(b)(4), which requires brake equipment on diesel multiple unit (DMU) and multiple unit (MU) locomotives to be periodically cleaned, repaired, and tested, among other maintenance, every 736 days. Instead, Caltrain proposes to increase the duration of the maintenance interval to a minimum of 1,840 days (with a goal of 3,680 days) for its Stadler KISS electric multiple units (EMUs), which are equipped with air dryers. As justification of its request, Caltrain states that the braking system for its EMUs has been designed for a maximum operating speed of 110 miles per hour and provides for “fail-safe friction brake effort.” Caltrain also proposes that a test committee is formed, with representatives from FRA as well as the EMU and brake manufacturers, to “oversee all aspects of the waiver process” and “support the test and inspection activities.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by July 2, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-09914 Filed 5-30-25; 8:45 am]

BILLING CODE 4910-06-P